DEPARTMENT OF TRANSPORTATION

National Highway Traffic Safety Administration

[Docket No. NHTSA-2015-0106; Notice 1]

Notice of Receipt of Petition for Decision That Nonconforming Model Year 2008-2010 Alfa Romeo 8C Spider Passenger Cars Are Eligible for Importation

AGENCY: National Highway Traffic Safety Administration (NHTSA), Department of Transportation (DOT).

ACTION: Receipt of petition.

SUMMARY: This document announces receipt by the National Highway Traffic Safety Administration (NHTSA) of a petition for a decision that model year (MY) 2008-2010 Alfa Romeo 8C Spider passenger cars (PC) that were not originally manufactured to comply with all applicable Federal Motor Vehicle Safety Standards (FMVSS) are eligible for importation into the United States because they have safety features that comply with, or are capable of being altered to comply with, all such standards.

DATES: The closing date for comments on the petition is February 22, 2016.

ADDRESSES: Comments should refer to the docket and notice numbers above and be submitted by any of the following methods:

• Federal eRulemaking Portal: Go to http://www.regulations.gov. Follow the online instructions for submitting comments.

• Mail: Docket Management Facility: U.S. Department of Transportation, 1200 New Jersey Avenue SE., West Building Ground Floor, Room W12-140, Washington, DC 20590-0001.

• Hand Delivery or Courier: West Building Ground Floor, Room W12-140, 1200 New Jersey Avenue SE., between 9 a.m. and 5 p.m. ET, Monday through Friday, except Federal holidays.

• Fax: 202-493-2251.

Instructions: Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78).

How to read comments submitted to the docket: You may read the comments received by Docket Management at the address and times given above. You may also view the documents from the Internet at http://www.regulations.gov. Follow the online instructions for accessing the dockets. The docket ID number and title of this notice are shown at the heading of this document notice. Please note that even after the comment closing date, we will continue to file relevant information in the Docket as it becomes available. Further, some people may submit late comments. Accordingly, we recommend that you periodically search the Docket for new material.

FOR FURTHER INFORMATION CONTACT: George Stevens, Office of Vehicle Safety Compliance, NHTSA (202-366-5308).

SUPPLEMENTARY INFORMATION:

Background

Under 49 U.S.C. 30141(a)(1)(B), a motor vehicle that was not originally manufactured to conform to all applicable FMVSS, and has no substantially similar U.S.-certified counterpart, shall be refused admission into the United States unless NHTSA has decided that the motor vehicle has safety features that comply with, or are capable of being altered to comply with, all applicable FMVSS based on destructive test data or such other evidence as NHTSA decides to be adequate.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

Wallace Environmental Testing Laboratories (WETL), Inc. of Houston, Texas (Registered Importer R-90-005) has petitioned NHTSA to decide whether nonconforming 2008-2010 Alfa Romeo 8C Spider PCs are eligible for importation into the United States.

In its petition, WETL notes that the original manufacturer, Alfa Romeo, certified the MY 2008 and 2009 8C Spider PCs to all applicable FMVSS and offered those vehicles for sale in the United States. WETL contends that the non-U.S certified MY 2010 Alfa Romeo 8C Spider PC shares the same platform with the U.S.-certified 2008 and 2009 model Alfa Romeo 8C Spider PC, and on that basis compares the non-U.S. certified model to those vehicles to establish its conformity with many applicable FMVSS. Because there is no U.S.-certified counterpart for the 2010 Alfa Romeo 8C Spider PC, the petitioner acknowledged that it could not base its petition solely on the substantial similarity of those vehicles to the U.S.-certified 2008 and 2009 Alfa Romeo 8C Spider PC in light of the petitioning requirements of 49 U.S.C. 30141(a)(1)(A), as set forth in 49 CFR part 593. Instead, the petitioner chose to establish import eligibility on the basis that the vehicles have safety features that comply with, or are capable of being modified to comply with, the FMVSS based on destructive test data or such other evidence that NHTSA decides to be adequate as set forth in 49 U.S.C. 30141(a)(1)(B). Nevertheless, the petitioner contends that the non-U.S. certified 2010 Alfa Romeo 8C Spider PCs use the same components as the U.S.-certified MY 2008 and 2009 Alfa Romeo 8C Spider PCs in virtually all of the systems subject to applicable FMVSS.

WETL submitted information with its petition intended to demonstrate that non-U.S. certified MY 2008 and 2009 Alfa Romeo 8C Spider PCs conform to many FMVSS and are capable of being altered to comply with all other standards to which they were not originally manufactured to conform.

Specifically, the petitioner claims that non-U.S. certified MY 2008, 2009 and 2010 Alfa Romeo 8C Spider PCs, as originally manufactured, conform to: Standard Nos. 102 Transmission Shift Lever Sequence, Starter Interlock, and Transmission Braking Effect, 103 Windshield Defrosting and Defogging Systems, 104 Windshield Wiping and Washing Systems, 106 Brake Hoses, 113 Hood Latch System, 116 Motor Vehicle Brake Fluids, 124 Accelerator Control Systems, 126 Electronic Stability Control Systems, 135 Passenger Car Brake Systems, 201 Occupant Protection in Interior Impact, 202 Head Restraints, 204 Steering Control Rearward Displacement, 205 Glazing Materials, 206 Door Locks and Door Retention Components, 207 Seating Systems, 209 Seat Belt Assemblies: 210 Seat Belt Assembly Anchorages, 212 Windshield Mounting, 214 Side Impact Protection, 216 Roof Crush Resistance, 219 Windshield Zone Intrusion, 225 Child Restraint Anchorage Systems, 301 Fuel System Integrity, 302 Flammability of Interior Materials, and 401 Interior Trunk Release.

The petitioner also contends that the subject non-U.S. certified vehicles are capable of being readily altered to meet the following standards, in the manner indicated:

Standard No. 101 Controls and Displays: replacement of the instrument cluster with the U.S.-model component.

Standard No. 108 Lamps, Reflective Devices and Associated Equipment: replacement of the headlamps, and the front and rear side marker lamps with U.S.-conforming components.

Standard No. 110 Tire Selection and Rims: installation of the required tire information placard.

Standard No. 111 Rearview Mirrors: inscription of the required warning statement on the face of the passenger mirror.

Standard No. 114 Theft Protection: reprogramming the theft protection control system by using the Examiner Smart Diagnostic System to change the country code options. In addition, there would be a need for installation of a key buzzer warning system to meet the requirements of the standard.

Standard No. 118 Power-Operated Window, Partition, and Roof Panel System: reprogramming the power-operated window, partition, and roof panel systems by using the Examiner Smart Diagnostic System to change the country code options.

Standard No. 138 Tire Pressure Monitoring Systems: installation of the U.S.-model tire pressure control unit, antenna, and sensors. In addition, programming of the associated control units by using the Examiner Smart Diagnostic System to change the country code options.

Standard No. 208 Occupant Crash Protection: installation of U.S.-model seat occupancy detection control units and seat frame sensors and replacement of the air bag ECUs. In addition, reprogramming of all associated control systems with U.S.-model software and reprogramming of the driver's seat controller to activate the safety belt warning buzzer using an Examiner Smart Diagnostic System.

The petitioner additionally states that a vehicle identification plate must be affixed to the vehicle near the left windshield pillar to meet the requirements of 49 CFR part 565.

All comments received before the close of business on the closing date indicated above will be considered, and will be available for examination in the docket at the above addresses both before and after that date. To the extent possible, comments filed after the closing date will also be considered. Notice of final action on the petition will be published in the Federal Register pursuant to the authority indicated below.

Authority: 49 U.S.C. 30141(a)(1)(A), (a)(1)(B), and (b)(1); 49 CFR 593.7; delegation of authority at 49 CFR 1.95 and 501.8.

Jeffrey M. Giuseppe,
Director, Office of Vehicle Safety Compliance.

[FR Doc. 2016-01270 Filed 1-21-16; 8:45 am]

BILLING CODE 4910-59-P